SOCIAL SECURITY ADMINISTRATION

[Docket No: SSA-2020-0012]

Agency Information Collection Activities: Comment Request

The Social Security Administration (SSA) publishes a list of information collection packages requiring clearance by the Office of Management and Budget (OMB) in compliance with Public Law 104-13, the Paperwork Reduction Act of 1995, effective October 1, 1995. This notice includes a revision of an OMB-approved information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov

(SSA) Social Security Administration, OLCA, Attn: Reports Clearance Director, 3100 West High Rise, 6401 Security Blvd., Baltimore, MD 21235, Fax: 410-966-2830, Email address: OR.Reports.Clearance@ssa.gov

Or you may submit your comments online through www.regulations.gov, referencing Docket ID Number [SSA-2020-0012].

SSA submitted the information collection below to OMB for clearance. Your comments regarding this information collection would be most useful if OMB and SSA receive them 30 days from the date of this publication. To be sure we consider your comments, we must receive them no later than May 5, 2021. Individuals can obtain copies of this OMB clearance package by writing to OR.Reports.Clearance@ssa.gov.

Electronic Consent Based Social Security Number Verification—20 CFR 400.100—0960-0817. The electronic Consent Based Social Security Number Verification (eCBSV) is a fee-based Social Security Number (SSN) verification service that allows permitted entities (a financial institution as defined by Section 509 of the Gramm-Leach-Bliley Act. 42 U.S.C. 405b(b)(4), Public Law 115-174, Title II, 215(b)(4), or service provider, subsidiary, affiliate, agent, subcontractor, or assignee of a financial institution), to verify that an individual's name, date of birth (DOB), and SSN match our records based on the SSN holder's signed—including electronic—consent in connection with a credit transaction or any circumstance described in section 604 of the Fair Credit Reporting Act (15 U.S.C. 1681b).

Background

We created this service due to section 215 of the Economic Growth, Regulatory Relief, and Consumer Protection Act of 2018 (Banking Bill), Public Law 115-174. Permitted entities are able to submit an SSN, name, and DOB of the number holder in connection with a credit transaction or any circumstances described in Section 604 of the Fair Credit Reporting Act to SSA for verification via an application programming interface. The purpose of the information collection is for SSA to verify for the permitted entity that the submitted SSN, name and DOB matches, or does not match, the data contained in our records. After obtaining number holders' consents, a permitted entity submits the names, DOBs, and SSNs of number holders to the eCBSV service. SSA matches the information against our Master File, using SSN, name, and DOB. The eCBSV service will respond in real time with a match/no match indicator (and an indicator if our records show that the number holder died). SSA does not provide specific information on what data elements did not match, nor does SSA provide any SSNs or other identifiable information. The verification does not authenticate the identity of the number holders or conclusively prove the number holders we verify are who they are claiming to be.

Consent Requirements

Under the eCBSV process, the permitted entity does not submit the number holder's consent forms to SSA. SSA requires each permitted entity to retain a valid consent for each SSN verification request submitted for a period of 5 years. The agency permits the permitted entity to retain the consent in an electronic format.

SSA requires a wet or electronic signature on the consent. A permitted entity may request verification of a number holder's SSN on behalf of a financial institution pursuant to the terms of the Banking Bill, the user agreement between SSA and the permitted entity, and the SSN Holder's consent. In this case, the permitted entity ensures that the financial institution agrees to the terms in the user agreement, which require the SSN verification be used only for the purpose stated in the consent, and prohibits entities from further using or disclosing the SSN verification. This relationship is subject to the terms in the user agreement between SSA and the permitted entity.

Compliance Review

SSA requires each permitted entity to undergo compliance reviews. An SSA approved certified public accountant (CPA) conducts the compliance reviews. The compliance reviews are designed to ensure that the permitted entities meet all terms and conditions of the user agreement, including that the permitted entities obtain valid consent from number holders. The permitted entity pays all compliance review costs through the eCBSV fees. In general, we request annual reviews with additional reviews as necessary. The CPA follows review standards established by the American Institute of Certified Public Accountants and contained in the Generally Accepted Government Auditing Standards (GAGAS).

This information collection request is for the expanded rollout of eCBSV. The previous eCBSV clearance was for an initial rollout to 10 selected permitted entities. During the initial rollout, we wanted to troubleshoot the service and make any necessary adjustments prior to opening eCBSV to all permitted entities. The respondents to the eCBSV information collection are the permitted entities; members of the public who consent to SSN verifications; and CPAs who provide compliance review services.

Type of Request: Revision of an OMB-approved information collection.

Time Burden
Requirement | Number of respondents | Frequency of response | Average burden per response (minutes) | Estimated total annual burden (hours) | Average theoretical hourly cost amount (dollars) * | Total annual opportunity cost (dollars) **
(a) Complete eCBSV enrollment process *** | 113 | 1 | 120 | 226 | * $37.56 | ** $8,489
(a) Configure customer system for ability to send in verification requests | 113 | 1 | 2,400 | 4,520 | * 37.56 | ** 169,771
(a) People whose SSNs SSA will verify—Reading and Signing | 1,100,000,000 | 1 | 3 | 55,000,000 | * 10.95 | ** 602,250,000
(a) Sending in the verification request, calling our service, getting a response | 1,100,000,000 | 1 | 1 | 18,333,333 | * 37.56 | ** 688,599,987
(b) Follow SSA requirements to configure application program interface | 113 | 1 | 4,800 | 9,040 | * 37.56 | ** 339,542
(c) CPA Compliance Review and Report **** | 113 | 1 | 4,800 | 9,040 | * 38.23 | ** 345,599
Totals | 2,200,000,452 |  |  | 73,356,159 |  | ** 1,291,713,388
* We based these figures on average Business and Financial operations occupations (https://www.bls.gov/oes/current/oes130000.htm), and Accountants and Auditors hourly salaries (https://www.bls.gov/oes/current/oes132011.htm), as reported by Bureau of Labor Statistics data, and average DI payments, as reported in SSA's disability insurance payment data (https://www.ssa.gov/legislation/2021FactSheet.pdf).
** This figure does not represent actual costs that SSA is imposing on recipients of Social Security payments to complete this application; rather, these are theoretical opportunity costs for the additional time respondents will spend to complete the application. There is no actual charge to respondents to complete the application.
*** The enrollment process is automated within the eCBSV Customer Connection, and entails providing consent for SSA to verify the EIN, electronically signing the eCBSV User Agreement and the permitted entity certification, selecting their annual tier level, and linking to pay.gov to make payment for services.
**** There will be one CPA firm respondent (an SSA-approved contractor) to conduct compliance reviews and prepare written reports of findings on the 113 permitted entities.

Cost Burden

The public cost burden is dependent upon the number of permitted entities using the service and the annual transaction volume. In FY 2019, 10 companies enrolled out of 123 applications received to participate in eCBSV. We based the cost estimates below on 123 participating permitted entities in FY 2021 submitting an anticipated volume of 1,100,000,000 transactions. The total cost for developing the service is $45,000,000, and SSA will recover the cost over a five-year period, assuming projected enrollments and transaction volumes materialize.

eCBSV Tier Fee Schedule
Tier | Annual volume threshold | Annual fee
1 | Up to 1,000 | $400
2 | Up to 10,000 | 3,030
3 | Up to 200,000 | 14,300
4 | Up to 50 million | 276,500
5 | Up to 2 billion | 860,000

Each enrolled permitted entity will be required to remit the above tier based subscription fee for the 365-day agreement period and the appropriate administrative fee. We will charge newly enrolled entities a startup administrative fee of $3,693. After the initial year, we will charge the entities a renewal administrative fee of $1,691 each time the agreement is renewed or amended. Fees are calculated based on forecasted systems and operational expenses, agency oversight, overhead, and CPA audit contract costs.

In addition, SSA will periodically recalculate costs to provide eCBSV services, and revise the tier fee schedule accordingly. We will notify companies of the tier fee schedule in effect at the renewal of eCBSV user agreements and via notice in the Federal Register; companies have the opportunity to cancel the agreement or renew service according to the new tier fee schedule.

Dated: March 31, 2021.
Eric Lowman,
Acting Reports Clearance Officer, Office of Legislative Development and Operations, Social Security Administration.

[FR Doc. 2021-06962 Filed 4-2-21; 8:45 am]

BILLING CODE 4191-02-P